DEPARTMENT OF HEALTH AND HUMAN SERVICES

Centers for Disease Control and Prevention

[60Day-16-16FE; Docket No. CDC-2015-0108]

Proposed Data Collection Submitted for Public Comment and Recommendations

AGENCY: Centers for Disease Control and Prevention (CDC), Department of Health and Human Services (HHS).

ACTION: Notice with comment period.

SUMMARY: The Centers for Disease Control and Prevention (CDC), as part of its continuing efforts to reduce public burden and maximize the utility of government information, invites the general public and other Federal agencies to take this opportunity to comment on proposed and/or continuing information collections, as required by the Paperwork Reduction Act of 1995. This notice invites comment on a proposed information collection entitled “Monitoring and Reporting System for Rape Prevention and Education (RPE) Awardees.” CDC will use the information collected to monitor cooperative agreement awardees and to identify challenges to program implementation and achievement of outcomes.

DATES: Written comments must be received on or before January 26, 2016.

ADDRESSES: You may submit comments, identified by Docket No. CDC-2015-0108 by any of the following methods:

Federal eRulemaking Portal: Regulation.gov. Follow the instructions for submitting comments.

Mail: Leroy A. Richardson, Information Collection Review Office, Centers for Disease Control and Prevention, 1600 Clifton Road NE., MS—D74, Atlanta, Georgia 30329.

Instructions: All submissions received must include the agency name and Docket Number. All relevant comments received will be posted without change to Regulations.gov, including any personal information provided. For access to the docket to read background documents or comments received, go to Regulations.gov.

Please note: All public comment should be submitted through the Federal eRulemaking portal (Regulations.gov) or by U.S. mail to the address listed above.

FOR FURTHER INFORMATION CONTACT: To request more information on the proposed project or to obtain a copy of the information collection plan and instruments, contact the Information Collection Review Office, Centers for Disease Control and Prevention, 1600 Clifton Road NE., MS—D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to OMB for approval. To comply with this requirement, we are publishing this notice of a proposed data collection as described below.

Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

Proposed Project

Monitoring and Reporting System for Rape Prevention and Education (RPE) Awardees—New—National Center for Injury Prevention and Control (NCIPC), Centers for Disease Control and Prevention (CDC).

Background and Brief Description

According to CDC's National Intimate Partner and Sexual Violence Survey (NISVS), in the United States, nearly 1 in 5 women and 1 in 71 men have been raped in their lifetime, while 1 in 2 women and 1 in 5 men have experienced severe sexual violence victimization other than rape at some point in their lives. Sexual violence is a major public health problem, but it is preventable. The majority of victimization starts early in life with approximately 80% of female victims experiencing their first rape before the age of 25 and almost half experiencing their first rape before age 18. CDC's Rape Prevention and Education Initiative is a national program which funds, through a cooperative agreement, all 50 state health departments, the District of Columbia, Puerto Rico, and territories (e.g., Guam, U.S. Virgin Islands, and the Commonwealth of Northern Mariana Islands) to conduct state- and territorial-wide sexual violence prevention activities.

The current Rape Prevention and Education (RPE) Cooperative Agreement builds on a decade long (2002-2012) investment in the infrastructure and capacity for sexual violence prevention within state health departments, state sexual assault coalitions, rape crisis centers and other community based organizations. Support and guidance for these programs have been provided through cooperative agreement funding and technical assistance administered by CDC's National Center for Injury Prevention and Control (NCIPC).

The goal of this information collection is to receive the needed data to monitor cooperative agreement programs funded under the Rape Prevention Education program (CDC-RFA-CE14-1401), for program monitoring and improvement among funded state health departments.

Data to be collected will provide crucial information for program performance monitoring and budget tracking, and provide CDC with the capacity to respond in a timely manner to requests for information about the program from the Department of Health and Human Services (HHS), the White House, Congress, and other sources. Awardees will report progress and activity information to CDC on an annual schedule using an Excel-based fillable electronic templates, pre-populated to the extent possible by CDC staff, to be submitted via Grant Solutions. Each awardee will submit an Annual reporting Progress Report Tool and an Annual reporting Evaluation Plan Tool. In Year 1, each awardee will have additional burden related to initial collection of the reporting tools. Initial population of the tools is a one-time activity, after completing the initial population of the tools, pertinent information only needs to be updated for each annual report. The same instruments will be used for all information collection and reporting.

CDC will use the information to monitor each awardee's progress and to identify facilitators and challenges to program implementation and achievement of outcomes. Monitoring allows CDC to determine whether an awardee is meeting performance and budget goals and to make adjustments in the type and level of technical assistance provided to them, as needed, to support attainment of their performance measures.

OMB approval is requested for three years. Participation in the information collection is required as a condition of funding. There are no costs to respondents other than their time.

Estimated Annualized Burden Hours
Type of respondents | Form name | Number of respondents | Number of responses per respondent | Average burden per response (in hours) | Total burden (in hours)
State and Territorial Health Departments or Sexual Assault Coalition Designee | Program Report Tool (initial collection—Year 1) | 55 | 1 | 7 | 385
| Work Plan Tool (initial collection—Year 1) | 55 | 1 | 10 | 550
| Program Report Tool (annual reporting collection—Years 2-3) | 55 | 2 | 3 | 330
| Work Plan Tool (annual reporting collection—Years 2-3) | 55 | 2 | 3 | 330
Total |  |  |  |  | 1,595

Leroy A. Richardson,
Chief, Information Collection Review Office, Office of Scientific Integrity, Office of the Associate Director for Science, Office of the Director, Centers for Disease Control and Prevention.

[FR Doc. 2015-30131 Filed 11-25-15; 8:45 am]

BILLING CODE 4163-18-P